DEPARTMENT OF ENERGY

10 CFR Part 429

[Docket No. EERE-2015-BT-CE-0019]

RIN 1990-AA44

Energy Conservation Program: Certification and Enforcement—Import Data Collection; Notice of Public Meeting and Reopening of Comment Period

AGENCY: Office of the General Counsel, Department of Energy.

ACTION: Notice of public meeting and reopening of comment period.

SUMMARY: On December 29, 2015, the U.S. Department of Energy (DOE) published a notice of proposed rulemaking in the Federal Register proposing that a person importing into the United States any covered product or equipment subject to an applicable energy conservation standard provide, prior to importation, a certification of admissibility to the DOE. The comment period ended February 12, 2016. After receiving several requests for additional time to prepare and submit comments, DOE has decided to reopen the period for submitting comments. In addition, DOE announces a public meeting and webinar regarding its proposal. DOE is reopening the comment period until February 29, 2016.

DATES: The comment period for the notice of proposed rulemaking published on December 29, 2015 (80 FR 81199), has been extended. DOE will accept comments, data, and information in response to the NOPR received no later than February 29, 2016. See SUPPLEMENTARY INFORMATION section for meeting dates.

ADDRESSES: The meetings will be held at U.S. Department of Energy, Forrestal Building, Room 8E-089, 1000 Independence Avenue SW., Washington, DC 20585. See the section “Public Participation” for details on submitting comments.

FOR FURTHER INFORMATION CONTACT: Ms. Ashley Armstrong, U.S. Department of Energy, Office of Energy Efficiency and Renewable Energy, Building Technologies Program, EE-5B, 1000 Independence Avenue SW., Washington, DC 20585-0121. Telephone: 202-586-6590. Email: ashley.armstrong@ee.doe.gov; or Mr. Steven Goering, U.S. Department of Energy, Office of the General Counsel, Forrestal Building, GC-32, 1000 Independence Avenue SW., Washington, DC 20585-0121. Telephone: 202-286-5691. Email: steven.goering@hq.doe.gov.

SUPPLEMENTARY INFORMATION: On December 29, 2015, the U.S. Department of Energy (DOE) published a notice of proposed rulemaking (NOPR) in the Federal Register proposing that a person importing into the United States any covered product or equipment subject to an applicable energy conservation standard provide, prior to importation, a certification of admissibility to the DOE. (80 FR 81199) The comment period ended February 12, 2016. After receiving several requests for additional time to prepare and submit comments, DOE has decided to extend the period for submitting comments. In addition, DOE announces a public meeting and webinar regarding its proposal.

DOE will host a public meeting and webinar on February 19, 2016, from 9:30 a.m. to 2:00 p.m. at DOE's Forrestal Building, Room 8E-089.

DOE will accept comments, data, and information in response to the NOPR received no later than February 29, 2016. DOE will consider any comments in response to the NOPR received by midnight of February 29, 2016, and deems any comments received by that time to be timely submitted.

Meeting Address

U.S. Department of Energy, Forrestal Building, 1000 Independence Avenue SW., Washington, DC 20585, Room 8E-089. Individuals will also have the opportunity to participate by webinar. To register for the webinar and receive call-in information, please register at https://attendee.gotowebinar.com/register/8895993921663587586.

To attend the meeting and/or to make oral statements regarding any of the items on the agenda, email Ms. Brenda Edwards brenda.edwards@ee.doe.gov. In the email, please indicate your name, organization (if appropriate), citizenship, and contact information. Please note that foreign nationals participating in the public meeting are subject to advance security screening procedures which require advance notice prior to attendance at the public meeting. If a foreign national wishes to participate in the public meeting, please inform DOE as soon as possible by contacting Ms. Regina Washington at (202) 586-1214 or by email: Regina.Washington@ee.doe.gov so that the necessary procedures can be completed. Anyone attending the meeting will be required to present a government photo identification, such as a passport, driver's license, or government identification. Due to the required security screening upon entry, individuals attending should arrive early to allow for the extra time needed.

Due to the REAL ID Act implemented by the Department of Homeland Security (DHS) recent changes have been made regarding ID requirements for individuals wishing to enter Federal buildings from specific states and U.S. territories. Driver's licenses from the following states or territory will not be accepted for building entry and one of the alternate forms of ID listed below will be required.

DHS has determined that regular driver's licenses (and ID cards) from the following jurisdictions are not acceptable for entry into DOE facilities: Alaska, Louisiana, New York, American Samoa, Maine, Oklahoma, Arizona, Massachusetts, Washington, and Minnesota.

Acceptable alternate forms of Photo-ID include: U.S. Passport or Passport Card; an Enhanced Driver's License or Enhanced ID-Card issued by the states of Minnesota, New York or Washington (Enhanced licenses issued by these states are clearly marked Enhanced or Enhanced Driver's License); A military ID or other Federal government issued Photo-ID card.

Public Participation

Any comments submitted must identify the NOPR for Import Data Collection, and provide docket number EERE-2015-BT-CE-0019 and/or regulatory information number (RIN) number 1990-AA44. Comments may be submitted using any of the following methods:

1. Federal eRulemaking Portal: www.regulations.gov. Follow the instructions for submitting comments.

2. Email: ImportData2015CE0019@ee.doe.gov. Include the docket number and/or RIN in the subject line of the message.

3. Mail: Ms. Brenda Edwards, U.S. Department of Energy, Building Technologies Program, Mailstop EE-5B, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

Docket: The docket, which includes Federal Register notices, public meeting attendee lists and transcripts, comments, and other supporting documents/materials, is available for review at regulations.gov. All documents in the docket are listed in the regulations.gov index. However, some documents listed in the index, such as those containing information that is exempt from public disclosure, may not be publicly available.

A link to the docket Web page can be found at: http://www.regulations.gov/#!docketDetail;D=EERE-2015-BT-CE-0019. This Web page will contain a link to the docket for this notice on the regulations.gov site. The regulations.gov Web page will contain simple instructions on how to access all documents, including public comments, in the docket.

For further information on how to submit a comment, review other public comments and the docket, or to request a public meeting, contact Ms. Brenda Edwards at (202) 586-2945 or by email: Brenda.Edwards@ee.doe.gov.

Issued in Washington, DC, on February 8, 2016.
Kathleen B. Hogan,
Deputy Assistant Secretary for Energy Efficiency, Energy Efficiency and Renewable Energy.

[FR Doc. 2016-03092 Filed 2-16-16; 8:45 am]

BILLING CODE 6450-01-P